DEPARTMENT OF LABOR

Office of the Secretary

Submission for OMB Review; Comment Request

March 13, 2001.

The Department of Labor (DOL) has submitted the following public information collection requests (ICRs) to the Office of Management and Budget (OMB) for review and approval in accordance with the Paperwork Reduction Act of 1995 (Pub. L. 104-13, 44 U.S.c. chapter 35. A copy of each individual ICR, with applicable supporting documentation, may be obtained by calling the Department of Labor. To obtain documentation contact Darrin King at (202) 693-4129 or E-mail to King-Darrin@dol.gov.

Comments should be sent to the Office of Information and Regulatory Affairs: Attn: OMB Desk Office for OSHA, Office of Management and Budget, Room 10235, Washington, DC 20503 ((202) 395-7316), on or before April 20, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Dipping and Coating Operations (Dip Tanks).

OMB Number: 1218-0237.

Affected Public: Business or other for-profit; Not-for-profit institutions; Federal Government; and State, Local or Tribal Government.

Frequency: On occasion.

Number of Respondents: 0.

Number of Annual Responses: 0.

Estimated Time Per Response: 0.

Total Burden Hours: 1.

Total Annulized Capital/Startup Costs: $0.

Total Annual Costs (operating/maintaining systems or purchasing services):: $0.

Description: 29 CFR 1910.126(g)(4) requires employers to determine the minimum safe distance (i.e., twice the sparking distance) that employees must maintain between equipment undergoing electrostatic detearing and the electrodes or conductors of the equipment used in the detearing process. Employers must conspicuously display the minimum safe distance on a sign located near this equipment.

Type of Review: Extension of a currently approved collection.

Agency: Occupational Safety and Health Administration (OSHA).

Title: Portable Fire Extinguishers, Annual Maintenance Certification Record.

OMB Number: 1218-0238.

Affected Public: Business or other for-profit; Not-for-profit institutions; Federal Government; and State, Local or Tribal Government.

Frequency: Annually.

Number of Respondents: 132,000.

Number of Annual Responses: 132,000.

Estimated Time Per Response: 30 minutes.

Total Burden Hours: 66,000.

Total Annulized Capital/Startup Costs: $0.

Total Annual Costs (operating/maintaining systems or purchasing services):: $19,008,000.

Description: 29 CFR 1910.157(e)(3) requires employers to annually inspect portable fire extinguisher for normal operation; record the maintenance date; maintain the maintenance record for one year after the last entry or for the life of the shell, whichever is less; and make the record available to the Assistant Secretary upon request.

Ira Mills,
Departmental Clearance Officer.

[FR Doc. 01-6969 Filed 3-20-01; 8:45 am]

BILLING CODE 4510-26-M